DEPARTMENT OF HOMELAND SECURITY

U.S. Customs and Border Protection

Notice of Reinstatement of Revoked Customs Broker Licenses

AGENCY: U.S. Customs and Border Protection, Department of Homeland Security.

ACTION: Reinstatement of customs broker licenses that were erroneously revoked.

SUMMARY: CBP erroneously revoked without prejudice several broker licenses in Federal Register notices published on November 18, 2011 and December 6, 2012. Notice is hereby given that the licenses named in the previous documents and identified in this document have been reinstated and are currently active.

SUPPLEMENTARY INFORMATION:

In a notice published in the Federal Register (76 FR 71584) on November 18, 2011, CBP erroneously revoked the following broker license by operation of law without prejudice pursuant to section 641 of the Tariff Act of 1930, as amended (19 U.S.C. 1641), and section 111.30(d) of title 19 of the Code of Federal Regulations (19 CFR 111.30(d)). The following license that was revoked in that notice has been reinstated and is currently active.

Last name | First name | License No. | Port of issuance
Ngo | Catherine | 24181 | Los Angeles

In a notice published in the Federal Register (77 FR 72873) on December 6, 2012, CBP erroneously revoked the following broker licenses by operation of law without prejudice pursuant to section 641 of the Tariff Act of 1930, as amended (19 U.S.C. 1641), and section 111.30(d) of title 19 of the Code of Federal Regulations (19 CFR 111.30(d)). The following licenses that were revoked in that notice have been reinstated and are currently active.

Last name | First name | License No. | Port of issuance
Lahey (Ramin) | Melissa | 04118 | Detroit
Smith | Nathaneal E. | 22372 | Laredo
Couch | Lesley | 17093 | New Orleans
Ahn | Byung M. | 22354 | New York
Arbolante | Armand | 16369 | New York
Banghart | Warren G. | 16374 | New York
Cambell & Gardiner, Inc. |  | 02342 | New York
Crapanzano | Dominick J. | 10029 | New York
Elisberg | Norman Gene | 02929 | New York
EWA Customs Service, Inc. |  | 23694 | New York
Fei | Donald L. | 10362 | New York
Fellouris | George | 04757 | New York
Ferrara International Logistics, Inc. |  | 20280 | New York
Fietz | William L. | 05163 | New York
Forte | Peter F. | 14575 | New York
Gambardella | Michael J. | 02913 | New York
Gregoriou | Larry | 10461 | New York
Haft | Shlomo Yisrael | 22296 | New York
Hassinger | Herbert A. | 07057 | New York
HAV International Freight |  | 12843 | New York
Irizarry | Dawn M. | 15160 | New York
Keenan | Gloria J. | 12322 | New York
Keough | James | 06910 | New York
Kittler | James A. | 09946 | New York
Konstantinovsky | Boris | 20792 | New York
Launer | Ralph W. | 05747 | New York
Lehat | Irving | 02579 | New York
Levine | Seth A. | 09759 | New York
Ma | Guo Zhan | 28050 | New York
Mosher | Fredric W. | 17134 | New York
Ovair Freight Service, Inc. |  | 05773 | New York
Palmieri | Eugene D. | 02632 | New York
Piechota | Robert Daniel | 23529 | New York
Rea | Robert | 03980 | New York
Reid | Derick | 15453 | New York
Ronan | William G. | 23177 | New York
Rowan | Susan M. | 09932 | New York
Stettner | Robert | 05894 | New York
Valdes | Dorianne | 17091 | New York
Walsh | John X. | 03979 | New York
Wang | Chia S. | 15452 | New York
Weinstock | Richard | 05119 | New York
Pietz | Lisa B. | 11676 | Norfolk
Bolalek | Philip J. | 21312 | Philadelphia
Liberati Corporation |  | 13176 | Philadelphia
Ellgen | Eric J. | 17010 | St. Louis
Keperling | Amy Denise | 17232 | St. Louis
Kim | Rae H. | 23730 | St. Louis
Lappin | Katharine A. | 20049 | St. Louis
Meadows | Matthew C. | 11512 | St. Louis
Polley | Teresa L. | 21661 | St. Louis
Trost | Thomas F. | 14753 | St. Louis
Waltos | Shirley A. | 07375 | St. Louis
Whitaker | John W. | 05474 | St. Louis
Golemon | Meredith Lee | 22352 | Washington, DC

Dated: August 2, 2013.
Richard F. DiNucci,
Deputy Assistant Commissioner, Office of International Trade.

[FR Doc. 2013-19132 Filed 8-7-13; 8:45 am]

BILLING CODE 9111-14-P